DEPARTMENT OF THE INTERIOR

National Park Service

[NPS-WASO-NAGPRA-NPS0040130; PPWOCRADN0-PCU00RP14.R50000]

Notice of Inventory Completion: Arkansas Archeological Survey, Fayetteville, AR

AGENCY: National Park Service, Interior.

ACTION: Notice.

SUMMARY: In accordance with the Native American Graves Protection and Repatriation Act (NAGPRA), the Arkansas Archeological Survey (ARAS) has completed an inventory of associated funerary objects and has determined that there is a cultural affiliation between the associated funerary object and Indian Tribes or Native Hawaiian organizations in this notice.

DATES: Repatriation of the associated funerary object in this notice may occur on or after June 13, 2025.

ADDRESSES: Sarah Shepard, Arkansas Archeological Survey, 2475 N Hatch Avenue, Fayetteville, AR 72704, telephone (479) 575-6552, email nagpra@uark.edu.

SUPPLEMENTARY INFORMATION: This notice is published as part of the National Park Service's administrative responsibilities under NAGPRA. The determinations in this notice are the sole responsibility of the Arkansas Archeological Survey, and additional information on the determinations in this notice, including the results of consultation, can be found in its inventory or related records. The National Park Service is not responsible for the determinations in this notice.

Abstract of Information Available

In 2025, a funerary object associated with human remains previously listed in a Notice of Inventory Completion published in the Federal Register on April 15, 2002 (67 FR 18240-18243) has been identified. The human remains and associated funerary objects from the April 15, 2002, notice were repatriated to the Caddo Nation of Oklahoma in 2002. In 2025, one Keno-trailed bottle associated with an individual listed in the April 15, 2002, notice has been identified in the ARAS' collection. This vessel was excavated by Joe Walker Jr. on April 19, 1978, then donated to HSU-ARAS by Mrs. Wanda Hoffman of Lonsdale on July 18, 1978.

Cultural Affiliation

Based on the information available and the results of consultation, cultural affiliation is clearly identified by the information available about the associated funerary object described in this notice.

Determinations

The Arkansas Archeological Survey has determined that:

• The one object described in this notice is reasonably believed to have been placed intentionally with or near individual human remains at the time of death or later as part of the death rite or ceremony.

• There is a connection between the associated funerary object described in this notice and the Caddo Nation of Oklahoma.

Requests for Repatriation

Written requests for repatriation of the associated funerary object in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary object described in this notice to a requestor may occur on or after June 13, 2025. If competing requests for repatriation are received, the Arkansas Archeological Survey must determine the most appropriate requestor prior to repatriation. Requests for joint repatriation of the associated funerary object are considered a single request and not competing requests. The Arkansas Archeological Survey is responsible for sending a copy of this notice to the Indian Tribes and Native Hawaiian organizations identified in this notice.

Authority: Native American Graves Protection and Repatriation Act, 25 U.S.C. 3003, and the implementing regulations, 43 CFR 10.10.

Dated: April 30, 2025.
Melanie O'Brien,
Manager, National NAGPRA Program.

[FR Doc. 2025-08484 Filed 5-13-25; 8:45 am]

BILLING CODE 4312-52-P